DEPARTMENT OF HOMELAND SECURITY

Office of the Secretary

Privacy Act of 1974; System of Records Notice

AGENCY: Privacy Office, DHS.

ACTION: Notice of removal of one Privacy Act system of records.

SUMMARY: In accordance with the Privacy Act of 1974, the Department of Homeland Security is giving notice that it will remove one system of records from its inventory of record systems because the United States Secret Service is consolidating system of records notices. The obsolete system of records notice is USSS.004 Financial Management Information System (August 28, 2001).

DATES: Effective Date: January 20, 2009.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing one United States Secret Service (USSS) system of records from its inventory of record systems.

DHS inherited this record system upon its creation in January of 2003. Upon review of its inventory of records systems, DHS has determined that records within this legacy system are covered by Department system of records DHS/ALL-007 Accounts Payable Records (73 FR 61880 October 17, 2008) covering general accounts payable records, budget preparation and presentation materials, apportionment records, payroll records, pay administration records, expenditure accounting records, tax ID records, and records containing information on current and projected accounts payable; DHS/ALL-008 Accounts Receivable Records (73 FR 61885 October 17, 2008) covering general accounts receivable records, records on individuals involved in payments with DHS, and records containing information on current and projected accounts receivable; DHS/ALL-019 Payroll, Personnel, and Time and Attendance Records (73 FR 63172 October 23, 2008) covering employee and individual records, employer records, records containing information compiled for the purpose of pay, travel, expenses incurred other than travel, and retirement annuities and taxes, and time and attendance records; DHS/ALL-013 Claims Records (73 FR 63987 October 28, 2008) covering records containing information compiled for the purpose of property damage, records containing information on tort claims dealing with USSS property; DHS/ALL-021 Contractors and Consultants Records (73 FR 63179 October 23, 2008) covering contractor and vendor records; DHS/ALL-011 Biographies and Awards Records (73 FR 66654 November 10, 2008) covering individuals who are recipients of awards and are retiring USSS.004 Financial Management Information System (66 FR 45362 August 28, 2001).

USSS.004 Financial Management Information System (66 FR 45362 August 28, 2001) was originally established to record, track, and maintain USSS financial accounting information, which are now covered by different systems of records. Eliminating this system of records notice will have no adverse impacts on individuals, but will promote the overall streamlining and management of DHS Privacy Act system of record notices.

Dated: December 10, 2008.
Hugo Teufel III,
Chief Privacy Officer, Department of Homeland Security.

[FR Doc. E8-29791 Filed 12-18-08; 8:45 am]

BILLING CODE 4410-10-P